DEPARTMENT OF COMMERCE

International Trade Administration

[A-580-839]

Certain Polyester Staple Fiber From the Republic of Korea: Final Results of the 2008-2009 Antidumping Duty Administrative Review

AGENCY: Import Administration, International Trade Administration, Department of Commerce.

SUMMARY: On June 15, 2010, the Department of Commerce published the preliminary results of the ninth administrative review of the antidumping duty order on certain polyester staple fiber from the Republic of Korea and invited interested parties to comment. The review covers shipments of subject merchandise to the United States by Huvis Corporation. Based on our analysis of the comments received from interested parties, we have made no changes for the final results. The final weighted-average dumping margins are listed below in the “Final Results of the Review” section of this notice.

DATES: Effective Date: October 19, 2010.

FOR FURTHER INFORMATION CONTACT: Seth Isenberg or Patricia Tran, Office 1, AD/CVD Operations, Import Administration, International Trade Administration, U.S. Department of Commerce, 14th Street and Constitution Avenue, NW., Washington, DC 20230; telephone: (202) 482-0588 and (202) 482-1503, respectively.

SUPPLEMENTARY INFORMATION:

Background

On June 15, 2010, the Department of Commerce (“the Department”) published Certain Polyester Staple Fiber from the Republic of Korea: Preliminary Results of the 2008-2009 Antidumping Duty Administrative Review, 75 FR 33783 (June 15, 2010) (“Preliminary Results”) in the Federal Register. On July 15, 2010, we received a case brief from Huvis Corporation (“Huvis”) concerning the Preliminary Results. On July 20, 2010, the Department released a post-preliminary calculation memo with our analysis of cost and price data submitted by Huvis on April 16, 2010, April 27, 2010 and May 28, 2010. See 2008-2009 Administrative Review of the Antidumping Duty Order on Certain Polyester Staple Fiber from the Republic of Korea: Post-Preliminary Analysis Calculation Memorandum for Huvis Corporation (dated July 6, 2010) (“Post-Prelim Memo”).

Based on that analysis, the Department determined that application of the Department's quarterly costing methodology was not warranted and, as a result, recommended no change to the findings in the Preliminary Results. Therefore, we invited interested parties to comment on the Preliminary Results and the Post-Prelim Memo.

On July 26, 2010, we received case briefs from DAK Americas, LLC and Invista, S.a.r.L., (collectively, “Petitioners”) and Huvis concerning the Post-Prelim Memo. On August 2, 2010, the Department received a rebuttal brief from Huvis. A public hearing was not requested.

Scope of the Order

For the purposes of the order, the product covered is certain polyester staple fiber (“PSF”). PSF is defined as synthetic staple fibers, not carded, combed or otherwise processed for spinning, of polyesters measuring 3.3 decitex (3 denier, inclusive) or more in diameter. This merchandise is cut to lengths varying from one inch (25 mm) to five inches (127 mm). The merchandise subject to the order may be coated, usually with a silicon or other finish, or not coated. PSF is generally used as stuffing in sleeping bags, mattresses, ski jackets, comforters, cushions, pillows, and furniture. Merchandise of less than 3.3 decitex (less than 3 denier) currently classifiable under the Harmonized Tariff Schedule of the United States (“HTSUS”) at subheading 5503.20.00.25 is specifically excluded from the order. Also specifically excluded from the order are polyester staple fibers of 10 to 18 denier that are cut to lengths of 6 to 8 inches (fibers used in the manufacture of carpeting). In addition, low-melt PSF is excluded from the order. Low-melt PSF is defined as a bi-component fiber with an outer sheath that melts at a significantly lower temperature than its inner core.

The merchandise subject to the order is currently classifiable in the HTSUS at subheadings 5503.20.00.45 and 5503.20.00.65. Although the HTSUS subheadings are provided for convenience and customs purposes, the written description of the merchandise under the order is dispositive.

Period of Review

The period of review (“POR”) is May 1, 2008, through April 30, 2009.

Analysis of Comments Received

All issues raised in the case and rebuttal briefs by parties to this review are addressed in the Department's October 7, 2010, Issues and Decision Memorandum for the 2008/09 Antidumping Duty Administrative Review of Certain Polyester Staple Fiber from the Republic of Korea (“Decision Memorandum”), which is hereby adopted by this notice. Attached to this notice as an appendix is a list of the issues which parties have raised and to which we have responded in the Decision Memorandum. Parties can find a complete discussion of all issues raised in this review and the corresponding recommendations in this public memorandum. This report is on file in the Department's Central Records Unit in room 7046 of the main Department building. In addition, a complete version of the Decision Memorandum can be accessed directly on the Web at http://ia.ita doc.gov/frn/index.html. The paper copy and electronic version of the Decision Memorandum are identical in content.

Fair Value Comparisons

To determine whether sales of PSF from the Republic of Korea to the United States were made at less than normal value (“NV”), we compared export price (“EP”) to the NV. We calculated EP, NV, constructed value, and the cost of production, based on the same methodologies used in the Preliminary Results.

Final Results of the Review

We find that the following margin percentage exists for the period May 1, 2008, through April 30, 2009:

Manufacturer | Weighted-average margin percentage
Huvis Corporation | 0.94

Assessment Rates

Huvis submitted evidence demonstrating that it was the importer of record for certain of its POR sales. We examined the customs entry documentation submitted by Huvis and tied it to the U.S. sales listing. Therefore, for purposes of calculating the importer-specific assessment rates, we have treated Huvis as the importer of record for certain POR shipments. Pursuant to 19 CFR 351.212(b)(1), for all sales where Huvis is the importer of record, Huvis submitted the reported entered value of the U.S. sales and we have calculated importer-specific assessment rates based on the ratio of the total amount of antidumping duties calculated for the examined sales to the total entered value of those sales.

Regarding sales where Huvis was not the importer of record, we note that Huvis did not report the entered value for the U.S. sales in question. Accordingly, we have calculated importer-specific per-unit duty assessment rates for the merchandise in question by aggregating the dumping margins calculated for all U.S. sales to each importer and dividing this amount by the total quantity of those sales. To determine whether the duty assessment rates were de minimis, we calculated importer-specific ad valorem rates based on the estimated entered value.

Pursuant to 19 CFR 351.106(c)(2), we will instruct U.S. Customs and Border Protection (“CBP”) to liquidate without regard to antidumping duties any entries for which the assessment rate is de minimis (i.e., less than 0.50 percent). The Department intends to issue assessment instructions directly to CBP 15 days after publication of the final results of review.

The Department clarified its “automatic assessment” regulation on May 6, 2003. See Antidumping and Countervailing Duty Proceedings: Assessment of Antidumping Duties, 68 FR 23954 (May 6, 2003). This clarification will apply to entries of subject merchandise during the POR produced by Huvis for which Huvis did not know its merchandise was destined for the United States. In such instances, we will instruct CBP to liquidate unreviewed entries at the all-others rate if there is no rate for the intermediate company(ies) involved in the transaction. Id.

Cash Deposit Rates

The following antidumping duty deposits will be required on all shipments of certain PSF from the Republic of Korea entered, or withdrawn from warehouse, for consumption, effective on or after the publication date of the final results of this administrative review, as provided by section 751(a)(1) of the Act: (1) The cash deposit rates for the reviewed companies will be the rate listed above (except no cash deposit will be required if a company's weighted-average margin is de minimis, i.e., less than 0.5 percent), (2) for merchandise exported by manufacturers or exporters not covered in this review but covered in the original less-than-fair-value investigation or a previous review, the cash deposit rate will continue to be the most recent rate published in the final determination or final results for which the manufacturer or exporter received an individual rate; (3) if the exporter is not a firm covered in this review, a prior review, or the original investigation, but the manufacturer is, the cash deposit rate will be the rate established for the most recent period for the manufacturer of the merchandise; and (4) if neither the exporter nor the manufacturer is a firm covered in this review, a prior review, or the investigation, the cash deposit rate will be 7.91 percent, the all-others rate established in Certain Polyester Staple Fiber from the Republic of Korea: Notice of Amended Final Determination and Amended Order Pursuant to Final Court Decision, 68 FR 74552 (December 24, 2003). These cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice also serves as a reminder to parties subject to administrative protective order (“APO”) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a sanctionable violation.

We are issuing and publishing these results and this notice in accordance with sections 751(a)(1) and 777(i)(1) of the Act.

Dated: October 7, 2010.
Ronald K. Lorentzen,
Deputy Assistant Secretary for Import Administration.

APPENDIX I

List of Comments in the Decision Memorandum

Comment 1: Offsetting Negative Margins

Comment 2: Quarterly Cost Methodology

[FR Doc. 2010-26267 Filed 10-18-10; 8:45 am]

BILLING CODE 3510-DS-P